DEPARTMENT OF LABOR

Employment and Training Administration

[TA-W-50,284]

Newell Rubbermaid Corporation, Newell Window Furnishings, Newell Operating Company, Levelor Hardware Group, Amerock Hardware Division, Bulldog Hardware Division, Ogdenburg, NY; Amended Certification Regarding Eligibility To Apply for Worker Adjustment Assistance

In accordance with section 223 of the Trade Act of 1974 (19 U.S.C. 2273) the Department of Labor issued a Certification of Eligibility to Apply for Worker Adjustment Assistance on December 19, 2002, applicable to workers of Newell Rubbermaid Corp., Levelor Hardware Group, Amerock Hardware Div., Bulldog Hardware Div., Ogdenburg, New York. The notice was published in the Federal Register on January 9, 2003 (68 FR 1200).

At the request of the State agency, the Department reviewed the certification for workers of the subject firm. The workers are engaged in the production of hardware items such as nuts, bolts and screws.

New information shows that some workers separated from employment at the subject firm had their wages reported under separate unemployment insurance (UI) tax accounts for Newell Window Furnishings and Newell Operating Company.

Accordingly, the Department is amending the certification to properly reflect this matter.

The intent of the Department's certification is to include all workers of Newell Rubbermaid Corp., Newell Window Furnishings, Newell Operating Company, Levelor Hardware Group, Amerock Hardware Div., and Bulldog Hardware Div., all in Ogdenburg, New York who were adversely affected by increased imports.

The amended notice applicable to TA-W-50,284 is hereby issued as follows:

All workers of Newell Rubbermaid Corp., Newell Window Furnishings, Newell Operating Company, Levelor Hardware Group, Amerock Hardware Div., Bulldog Hardware Div., Ogdenburg, New York, who became totally or partially separated from employment on or after November 27, 2001, through December 19, 2004, are eligible to apply for adjustment assistance under section 223 of the Trade Act of 1974.

Signed in Washington, DC, this 7th day of April, 2003.
Richard Church,
Certifying Officer, Division of Trade Adjustment Assistance.

[FR Doc. 03-9149 Filed 4-14-03; 8:45 am]

BILLING CODE 4510-30-P